DEPARTMENT OF AGRICULTURE

Forest Service

Information Collection; Special Areas; State Petitions for Inventoried Roadless Area Management

AGENCY: Forest Service, USDA.

ACTION: Notice; request for comment.

SUMMARY: In accordance with the Paperwork Reduction Act of 1995, the Forest Service is seeking comments from all interested individuals and organizations on the extension of a currently approved information collection, State Petitions for Inventoried Roadless Area Management.

DATES: Comments must be received in writing on or before January 22, 2008 to be assured of consideration. Comments received after that date will be considered to the extent practicable.

ADDRESSES: Comments concerning this notice should be addressed to Forest Service, USDA Assistant Director for Planning, Ecosystem Management Coordination, Mail Stop 1104, 1400 Independence Avenue, SW., Washington, DC 20250-1104.

Comments also may be submitted via facsimile to (202) 205-1012 or by e-mail to: bsupulski@fs.fed.us.

The public may inspect comments received at the Ecosystem Management Coordination Office, 201 14th St., SW., Washington, DC 20250-1104 during normal business hours. Visitors are encouraged to call ahead to (202) 205-0895 to facilitate entry to the building.

FOR FURTHER INFORMATION CONTACT: Bill Supulski, Ecosystem Management Coordination, (202) 205-0948. Individuals who use TDD may call the Federal Relay Service (FRS) at 1-800-877-8339, 24 hours a day, every day of the year, including holidays.

SUPPLEMENTARY INFORMATION: Title: Special Areas; State Petitions for Inventoried Roadless Area Management

OMB Number: 0596-0178

Expiration Date of Approval: May 31, 2008

Type of Request: Extension of a currently approved collection

Abstract: On May 13, 2005, the Forest Service published a final rule 36 CFR part 294 creating an individual state petitioning process for state and territorial governors to seek establishment of management requirements for National Forest System inventoried roadless areas within their States. On September 19, 2006, the United States District Court for the Northern District of California issued an order setting aside the state petitions rule. (People of the State of California, ex rel Lockyer v. U.S. Dept. of Agriculture, No. C05-03508-EDL (N.D. Cal.). This decision is currently under appeal. The petitions will only be collected and used if this injunction is lifted. If the injunction is lifted, the petitions would be evaluated and if accepted by the Secretary of Agriculture, the Forest Service would initiate subsequent State-specific rulemaking for the management of inventoried roadless areas in cooperation with the state or territory involved in the petitioning process.

Estimate of Annual Burden: This is estimated to be as high as 1,000 hours for a single petition, depending on the number of roadless areas within a State and the extent of adjustment to roadless area management recommended in an individual petition.

Type of Respondents: State and territorial governors.

Estimated Annual Number of Respondents: 36; if all affected states and territories submit petitions.

Estimated Annual Number of Responses per Respondent: 1.

Estimated Total Annual Burden on Respondents: Up to 36,000 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: November 15, 2007.
Gloria Manning,
Associate Deputy Chief, NFS.

[FR Doc. E7-22668 Filed 11-19-07; 8:45 am]

BILLING CODE 3410-11-P